DEPARTMENT OF ENERGY

Federal Energy Regulatory Commission

Supplemental Notice of Meeting

On August 19, 2014, a Notice was issued announcing that Commissioner Philip D. Moeller will convene a meeting at the Federal Energy Regulatory Commission on Thursday, September 18, 2014, from 2:00 p.m. to 4:45 p.m., in the Commission Meeting Room at the agency's headquarters. That notice is hereby supplemented with the following information.

Due to the large number of persons who have expressed an interest to speak at the meeting, Commissioner Moeller kindly requests that each speaker keep their remarks and responses succinct and focused on issues directly related to the topic of the meeting (i.e., discussing ideas to facilitate and improve the way in which natural gas is traded, and explore the concept of establishing a centralized trading platform for natural gas).

The meeting format will consist of a roundtable discussion and persons speaking are not expected to have prepared remarks or formal presentations. There will also be an opportunity to file written comments after the meeting on any issue that was discussed at the meeting. Written comments will be limited to no more than five (5) pages and be due by October 1, 2014 by email to jason.stanek@ferc.gov. All comments received will then be publically posted on Commissioner Moeller's Web site at www.ferc.gov in the “Highlights” section.

This is an in-person meeting only, and the meeting will not be transcribed, webcast, or be available by telephone. As noted previously, this meeting is open to the public and there is no registration to attend.

Dated: September 9, 2014.
Kimberly D. Bose,
Secretary.

[FR Doc. 2014-22098 Filed 9-16-14; 8:45 am]

BILLING CODE 6717-01-P